DEPARTMENT OF AGRICULTURE

Agricultural Research Service

Notice of the Advisory Committee on Biotechnology and 21st Century Agriculture Meeting

AGENCY: Agricultural Research Service, Office of the Under Secretary, Research, Education, and Economics, USDA.

ACTION: Notice of Meeting.

SUMMARY: In accordance with the Federal Advisory Committee Act, 5 U.S.C. App. II, the United States Department of Agriculture announces a meeting of the Advisory Committee on Biotechnology and 21st Century Agriculture (AC21).

DATES: The meeting dates are December 14, 2006, 8 a.m. to 5 p.m., and December 15, 8 a.m. to 4 p.m.

ADDRESSES: Room 107A, USDA Jamie L. Whitten Building, 12th Street and Jefferson Drive, SW, Washington, DC 20250.

FOR FURTHER INFORMATION CONTACT: Michael Schechtman, Telephone (202) 720-3817.

SUPPLEMENTARY INFORMATION: The fourteenth meeting of the AC21 has been scheduled for December 14-15, 2006. The AC21 consists of 19 members representing the biotechnology industry, international plant genetics research, farmers, food manufacturers, commodity processors and shippers, environmental and consumer groups, and academic researchers. In addition, representatives from the Departments of Commerce, Health and Human Services, and State, and the Environmental Protection Agency, the Council on Environmental Quality, the Office of the United States Trade Representative, and the National Association of State Departments of Agriculture serve as “ex officio” members. At this meeting, the Committee plans to continue work on the effects (in terms of planting decisions, markets, and rural communities) of coexistence issues on the development and use of new crops derived through modern biotechnology. This will include consideration of presentations from external speakers as well as development of a statement of work and a work plan to address current and future relevant factors. Background information regarding the work of the AC21 will be available on the USDA Web site at http://www.usda.gov/wps/portal/ !ut/p/_s.7_0_A/7_0_1OB?navid=BIOTECH&parentnav=AGRICULTURE&navtype=RT.

Members of the public should enter the building through the Jefferson Drive entrance. Requests to make oral presentations at the meeting may be sent to Michael Schechtman, Designated Federal Official, Office of the Deputy Secretary, USDA, 202 B Jamie L. Whitten Federal Building, 12th Street and Jefferson Drive, SW., Washington, DC 20250, Telephone (202) 720-3817; Fax (202) 690-4265; E-mail Michael.schechtman@ars.usda.gov. On December 14, 2006, if time permits, reasonable provision will be made for oral presentations of no more than five minutes each in duration. Written requests to make oral presentations at the meeting must be received by the contact person identified herein at least three business days before the meeting. The meeting will be open to the public, but space is limited. If you would like to attend the meetings, you must register by contacting Ms. Debra Lindsay at (202) 720-4074, by fax at (202) 720-3191 or by E-mail at debra.lindsay@ars.usda.gov at least five business days prior to the meeting. Please provide your name, title, business affiliation, address, and telephone and fax numbers when you register. If you require a sign language interpreter or other special accommodation due to disability, please indicate those needs at the time of registration.

Dated: November 2, 2006.
Jeremy Stump,
Senior Advisor for International and Homeland Security Affairs and Biotechnology.

[FR Doc. E6-19028 Filed 11-8-06; 8:45 am]

BILLING CODE 3410-03-P